DEPARTMENT OF LABOR

Employment and Training Administration

Agency Information Collection Activities; Comment Request;

ACTION: Notice.

SUMMARY: The Department of Labor's (DOL) Employment and Training Administration (ETA) is soliciting comments concerning a proposed extension for the authority to conduct the information collection request (ICR) titled, “DOL-only Performance Accountability, Information, and Reporting System.” This comment request is part of continuing Departmental efforts to reduce paperwork and respondent burden in accordance with the Paperwork Reduction Act of 1995 (PRA).

DATES: Consideration will be given to all written comments received by January 25, 2021.

ADDRESSES: A copy of this ICR with applicable supporting documentation, including a description of the likely respondents, proposed frequency of response, and estimated total burden, may be obtained free by contacting Toquir Ahmed by telephone at (202) 693-3901 (this is not a toll-free number), TTY 1-877-889-5627 (this is not a toll-free number), or by email at ahmed.toquir@dol.gov.

Submit written comments about, or requests for a copy of, this ICR by mail or courier to the U.S. Department of Labor, Office of Policy Development and Research, Room N5641, Employment and Training Administration, 200 Constitution Ave. NW, Washington, DC 20210; by email: ahmed.toquir@dol.gov; or by fax 202-693-2766.

FOR FURTHER INFORMATION CONTACT: Toquir Ahmed by telephone at (202) 693-3901 (this is not a toll-free number) or by email at ahmed.toquir@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

This Information Collection Request (ICR) seeks to revise the Department of Labor's (DOL) Employment and Training Administration's (ETA) information collection 1205-0521, DOL-only Performance Accountability, Information, and Reporting System.

This ICR is the product of a joint effort among the DOL offices responsible for the following programs: WIOA Adult, WIOA Dislocated Worker, WIOA Youth, National Dislocated Worker Grants, Dislocated Worker Projects authorized under WIOA sec. 169(c), Wagner Peyser Employment Service, National Farmworker Jobs Program, Job Corps, YouthBuild, Indian and Native American Program, as well as non-WIOA covered programs, including Trade Adjustment Assistance (TAA), Reentry Employment Opportunities (REO), H-1B discretionary grants, Senior Community Service Employment Program (SCSEP), Apprenticeship grants, and the Jobs for Veterans' State Grants Programs. While H-1B grants, TAA, SCSEP, Apprenticeship grants and the REO programs are not authorized under WIOA, these programs will be utilizing the data element definitions and reporting templates proposed in this ICR.

As a part of this revision request, ETA has made changes to the Participant Individual Record Layout (ETA-9172), (Program) Performance Report (ETA-9173) that include: (1) Adding new program-specific versions of the ETA-9173 Quarterly Performance Reports (QPRs) for the REO Adult and REO Youth grants; (2) adding a column to the ETA-9172 to specify which elements may be collected by Dislocated Worker Projects (demonstrations and pilots) authorized under WIOA sec. 169(c); (3) adding data elements needed by program offices, (new elements, and checks/unchecks); and (4) revising element names, definitions/instructions, and code fields to enhance the clarity of the collection.

Section 116 of WIOA (29 U.S.C. 3141) authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control No. 1205-0521.

Submitted comments will also be a matter of public record for this ICR and posted on the internet, without redaction. DOL encourages commenters to exclude personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: DOL-only Performance Accountability, Information, and Reporting System.

Form: DOL Participant Individual Record Layout (PIRL) (ETA-9172); (Program) Performance Report (ETA-9173); and Pay-for-Performance Report (ETA-9174).

OMB Control Number: 1205-0521.

Affected Public: State, Local, and Tribal Governments and Individuals or Households.

Estimated Number of Respondents: 17,583,750.

Frequency: Varies.

Total Estimated Annual Responses: 41,064,037.

Estimated Average Time per Response: Varies.

Estimated Total Annual Burden Hours: 10,459,627 hours.

Total Estimated Annual Other Cost Burden: $245,464,843.48.

Authority: 44 U.S.C. 3506(c)(2)(A).

John Pallasch,
Assistant Secretary for Employment and Training, Labor.

[FR Doc. 2020-26006 Filed 11-24-20; 8:45 am]

BILLING CODE 4510-FM-P